DEPARTMENT OF HOMELAND SECURITY

Federal Emergency Management Agency

44 CFR Part 64

[Docket No. FEMA-7788]

List of Communities Eligible for the Sale of Flood Insurance

AGENCY: Mitigation Division, Federal Emergency Management Agency (FEMA), Department of Homeland Security.

ACTION: Final rule.

SUMMARY: This rule identifies communities that are participating and suspended from the National Flood Insurance Program (NFIP). These communities have applied to the program and have agreed to enact certain floodplain management measures. The communities' participation in the program authorizes the sale of flood insurance to owners of properties located in the communities listed below.

DATES: Effective Dates: The effective date for each community is listed in the fourth column of the following tables.

ADDRESSES: Flood insurance policies for properties located in the communities listed below can be obtained from any licensed property insurance agent or broker serving the eligible community or from the NFIP by calling 1-800-638-6620.

FOR FURTHER INFORMATION CONTACT: David H. Stearrett, Chief, Floodplain Management Section, Risk Reduction Branch, Mitigation Division, 500 C Street, SW., Washington, DC 20472, (202) 646-2953.

SUPPLEMENTARY INFORMATION: The NFIP enables property owners to purchase flood insurance that is generally not otherwise available. In return, communities agree to adopt and implement local floodplain management regulations that contribute to protecting lives and reducing the risk of new construction from future flooding. Because the communities on the attached list have recently entered the NFIP, subsidized flood insurance is now available for properties in these communities.

FEMA has identified the Special Flood Hazard Areas (SFHAs) in some of these communities by publishing a Flood Hazard Boundary Map (FHBM) or Flood Insurance Rate Map (FIRM). The date of the flood map, if one has been published, is indicated in the fourth column of the table. In the communities listed where a flood map has been published, Section 202 of the Flood Disaster Protection Act of 1973, as amended, 42 U.S.C. 4016(a), requires the purchase of flood insurance as a condition of Federal or Federally-related financial assistance for acquisition or construction of buildings in the SFHAs shown on the map.

The Administrator finds that delayed effective dates would be contrary to the public interest and that notice and public procedure under 5 U.S.C. 553(b) are impracticable and unnecessary.

National Environmental Policy Act. This rule is categorically excluded from the requirements of 44 CFR part 10, Environmental Considerations. No environmental impact assessment has been prepared.

Regulatory Flexibility Act. The Administrator certifies that this rule will not have a significant economic impact on a substantial number of small entities in accordance with the Regulatory Flexibility Act, 5 U.S.C. 601 et seq., because the rule creates no additional burden, but lists those communities eligible for the sale of flood insurance.

Regulatory Classification. This final rule is not a significant regulatory action under the criteria of section 3(f) of Executive Order 12866 of September 30, 1993, Regulatory Planning and Review, 58 FR 51735.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 is revised to read as follows:

Authority: 42 U.S.C. 4001 et seq., Reorganization Plan No. 3 of 1978, 3 CFR, 1978 Comp., p. 329; E.O. 12127, 44 FR 19367, 3 CFR, 1979 Comp., p. 376.

§ 64.6 [Amended]

The tables published under the authority of § 64.6 are amended as follows:

State | Location | Community No. | Effective date of eligibility | Current effective map date
New Eligibles: Emergency Program
Region V
Minnesota | Apple Valley, City of, Dakota County | 270050 | April 14, 2006 | Never Mapped.
Region VI
Arkansas | Datto, Town of, Clay County | 050190 | May 23, 2006 | Never Mapped.
Do * | Nimmons, Town of, Clay County | 050332 | ......do | Do.
Region VII
Missouri | Merriam Woods, Village of, Taney County | 290069 | June 21, 2006 | Adopted Preliminary FIRM dated September 26, 2006.
Region IV
Alabama | Phil Campbell, Town of, Franklin County | 010333 | June 26, 2006 | FHBM dated of, October 29, 1976.
Georgia | Oxford, City of, Newton County | 130367 | ......do | April 11, 1975.
New Eligibles: Regular Program
Region VII
Missouri | Cedar County, Unincorporated Areas | 290791 | April 11, 2006 | July 17, 2002.
Region VI
Arkansas | Lonsdale, Town of, Garland County | 050586 | April 14, 2006 | Use Garland County (CID 050433) FIRM panel 125C, dated February 15, 1991.
Region VII
Iowa | Grundy County, Unincorporated Areas | 190870 | April 21, 2006 | October 19, 2005.
Do | Hancock, City of, Pottawattamie County | 190236 | ......do | Use Pottawattamie County (CID 190232) FIRM panel 338E, dated February 4, 2005.
Do | Wellsburg, City of, Grundy County | 190680 | ......do | Use Garland County (CID 190870) FIRM panels 160B and 170B, dated October 19, 2005.
Region IV
Florida | Lake Placid, City of, Highlands County | 120028 | April 25, 2006 | Use Highland County (CID 120111) FIRM panels 150B and 175B, dated February 16, 1983.
Do | West Park, City of, Broward County | 120222 | ......do | Use Broward County (CID 125093) FIRM panels 312F, 0314F, 316F and 318F, dated August 18, 1992.
Region VII
Missouri | Linn, City of, Osage County | 290708 | April 28, 2006 | Use Osage County (CID 290268) FIRM panel 255D, dated September 2, 2005.
Region X
Washington | ** Republic, Town of, Ferry County | 530042 | May 2, 2006 | May 2, 2006.
Region V
Michigan | Powell, Township of, Marquette County | 260452 | May 4, 2006 | November 20, 2000.
Region VII
Iowa | Tama County, Unincorporated Areas | 190908 | May 4, 2006 | January 9, 2006.
Region IV
Georgia | ** Hampton, Town of, Henry County | 130107 | May 16, 2006 | May 16, 2006.
Do | Rutledge, Town of, Morgan County | 130363 | May 19, 2006 | February 15, 2002.
Region VII
Nebraska | Pawnee County, Unincorporated Areas | 310463 | June 6, 2006 | July 5, 2005.
Do | Johnson County, Unincorporated Areas | 310122 | ......do | April 17, 2006.
Region VI
Louisiana | Stonewall, Town of, De Soto Parish | 220411 | June 21, 2006 | December 16, 2003.
Region V
Michigan | Stevensville, Village of, Berrien County | 260557 | June 23, 2006 | April 17, 2006.
Region IV
Alabama | Garden City, Town of, Cullman County | 010436 | June 26, 2006 | Use Cullman County (CID 010247) FIRM panels 345D,365D, and 485D, dated December 2, 2004.
Do | Holly Pond, Town of, Cullman County | 010440 | ......do | Use Cullman County (CID 010247) FIRM panel 265D dated December 2, 2004.
Do | Somerville, City of, Morgan County | 010363 | ......do | December 16, 2005.
Do | Vance, Town of, Tuscaloosa and Bibb Counties | 010428 | ......do | Use Tuscaloosa County (CID 010201) FIRM panels 575E and 600E, dated September 7, 2000.
Georgia | Grantville, City of, Coweta County | 130443 | ......do | May 16, 2006.
Do | Locust Grove, City of, Henry County | 130032 | ......do | Do.
Do | Sharpsburg, City of, Coweta County | 130581 | ......do | Do.
Do | Turin, City of, Coweta County | 130475 | ......do | Do.
Region VI
Arkansas | Cedarville, City of, Crawford, County | 050505 | ......do | Use Crawford County (CID 050428) FIRM panels 100E and 175E, dated December 20,2000.
Region VII
Missouri | Moscow Mills, City of, Lincoln County | 290546 | ......do | Use Lincoln County (CID 290869) FIRM panel 185C, dated April 3, 1993.
Reinstatements
Region V
Ohio | Washington County, Unincorporated Areas | 390566 | April 6, 2006 | February 16, 2006.
Region IV
North Carolina | Carolina Beach, Town of, Hanover County | 375347 | April 7, 2006 | April 3, 2006.
Region V
Michigan | Michiana, Village of, Berrien County | 260275 | May 16, 2006 | April 17, 2006.
Do | Niles, Township of, Berrien County | 260041 | ......do | Do.
Region VII
Missouri | Creighton, City of, Cass County | 290063 | ......do | March 16, 2006.
Do | East Lynne, City of, Cass County | 290065 | ......do | Do.
Region V
Michigan | Buchanan, City of, Berrien County | 260554 | May 17, 2006 | April 17, 2006.
Do | New Buffalo, Township of, Berrien County | 260039 | May 18, 2006 | Do.
Do | Niles, City of, Berrien County | 260040 | ......do | Do.
Region I
Vermont | Alburg, Town of, Grand Isle County | 500221 | June 20, 2006 | May 5, 1981.
Do | Brookline, Town of, Windham County | 500208 | ......do | September 4, 1985. | Region IV
Georgia | Arlington, City of, Calhoun and Early Counties | 130026 | June 26, 2006 | June 3, 1986.
Withdrawals
Suspensions
Region IV
North Carolina | Carolina Beach, Town Hanover County | 275347 | April 5, 2006 | April 3, 2006.
Region V
Michigan | Benton, Township of, Berrien County | 260031 | April 19, 2006 | April 17, 2006.
Do | Benton Harbor, City of, Berrien County | 260032 | ......do | Do.
Do | Buchanan, City of, Berrien County | 260554 | ......do | Do.
Do | Coloma, City of, Berrien County | 260556 | ......do | Do.
Do | Lake, Township of, Berrien County | 260036 | ......do | Do.
Do | Michiana, Village of, Berrien County | 260275 | ......do | Do.
Do | New Buffalo, Township of, Berrien County | 260039 | ......do | Do.
Do | Niles, City of, Berrien County | 260040 | ......do | Do.
Do | Niles, Township of, Berrien County | 260041 | ......do | Do.
Do | Watervliet, City of, Berrien County | 260047 | ......do | Do.
Region IV
North Carolina | Fuquay-Varina, Town of, Wake County | 370239 | May 8, 2006 | May 2, 2006.
Do | Wake Forest, Town of, Wake County | 370244 | ......do | Do.
Probation
Region IV
North Carolina | Erwin, Town of, Harnett County | 370456 | April 28, 2006 | April 16, 1990.
Region V
Indiana | Patriot, Town of, Switzerland County | 180309 | Probation Lifted December 4, 2006 | June 30, 1979.
Suspension Rescissions
Region IV
North Carolina | Kure Beach, Town of, New Hanover County | 370170 | April 4, 2006 Suspension Notice Rescinded | April 3, 2006.
Do | New Hanover County, Unincorporated Areas | 370168 | ......do | Do.
Do | Wilmington, City of, New Hanover County | 370171 | ......do | Do.
Do | Wrightsville Beach, Town of, New Hanover County | 375361 | ......do | Do.
Region V
Ohio | Adena, Village of, Jefferson County | 390295 | ......do | April 5, 2006.
Do | Bellaire, Village of, Belmont County | 390025 | ......do | Do.
Do | Belmont County, Unincorporated Areas | 390762 | ......do | Do.
Do | Bethesda, Village of, Belmont County | 390674 | ......do | Do.
Do | Bridgeport, Village of, Belmont County | 390026 | ......do | Do.
Do | Brookside, Village of, Belmont County | 390027 | ......do | Do.
Do | Columbiana County, Unincorporated Areas | 390076 | ......do | Do.
Do | Holloway, Village of, Belmont County | 390028 | ......do | Do.
Do | Irondale, Village of, Jefferson County | 390741 | ......do | Do.
Do | Martins Ferry, City of, Belmont County | 390029 | ......do | Do.
Do | New Waterford, Village of, Columbiana County | 390663 | ......do | Do.
Do | Rogers, Village of, Columbiana County | 390645 | ......do | Do.
Do | Salineville, Village of, Columbiana County | 390628 | ......do | Do.
Do | Shadyside, Village of, Belmont County | 390031 | ......do | Do.
Do | Steubenville, City of, Jefferson County | 390302 | ......do | Do.
Do | Stratton, Village of, Jefferson County | 390303 | ......do | Do.
Do | Tiltonsville, Village of, Jefferson County | 390634 | ......do | Do.
Do | Washingtonville, Village of, Columbiana County | 390087 | ......do | Do.
Do | Wellsville, Village of, Columbiana County | 390088 | ......do | Do.
Do | Yorkville, Village of, Belmont and Jefferson Counties | 390033 | ......do | Do.
Region VII
Missouri | Arnold, City of, Jefferson County | 290188 | ......do | Do.
Do | Byrnes Mill, City of, Jefferson County | 290891 | ......do | Do.
Do | Festus, City of, Jefferson County | 290191 | ......do | Do.
Do | Herculaneum, City of, Jefferson County | 290192 | ......do | Do.
Do | Hillsboro, City of, Jefferson County | 290573 | ......do | Do.
Do | Jefferson County, Unincorporated Areas | 290808 | ......do | Do.
Do | Kimmswick, City of, Jefferson County | 290193 | ......do | Do.
Do | Pevely, City of, Jefferson County | 290677 | ......do | Do.
Do | Scotsdale, Town of, Jefferson County | 290949 | ......do | Do.
Region V
Michigan | Berrien Springs, Village of, Berrien County | 260330 | April 17, 2006 Suspension Notice Rescinded | April 17, 2006.
Do | Coloma, Township of, Berrien County | 260034 | ......do | Do.
Do | Hagar, Township of, Berrien County | 260035 | ......do | Do.
Do | Lincoln, Township of, Berrien County | 260037 | ......do | Do.
Do | New Buffalo, City of, Berrien County | 260038 | ......do | Do.
Do | Oronoko, Township of, Berrien County | 260042 | ......do | Do.
Do | Watervliet, Township of, Berrien County | 260048 | ......do | Do.
Minnesota | Big Stone County, Unincorporated Areas | 270652 | ......do | Do.
Do | Clinton, City of, Big Stone County | 270024 | ......do | Do.
Do | Graceville, City of, Big Stone County | 270026 | ......do | Do.
Do | Odessa, City of, Big Stone County | 270027 | ......do | Do.
Do | Ortonville, City of, Big Stone County | 270028 | ......do | Do.
Region VII
Nebraska | Sterling, Village of, Johnson County | 310126 | ......do | Do.
Region IV
North Carolina | Apex, Town of, Wake County | 370467 | May 5, 2006 Suspension Notice Rescinded | May 2, 2006.
Do | Cary, Town of, Wake County | 370238 | ......do | Do.
Do | Durham, City of, Durham County | 370086 | ......do | Do.
Do | Durham County, Unincorporated Areas | 370085 | ......do | Do.
Do | Garner, Town of, Wake County | 370240 | ......do | Do.
Do | Holly Springs, Town of, Wake County | 370403 | ......do | Do.
Do | Knightdale, Town of, Wake County | 370241 | ......do | Do.
Do | Morrisville, Town of, Wake County | 370242 | ......do | Do.
Do | Raleigh, City of, Wake County | 370243 | ......do | Do.
Do | Rolesville, Town of, Wake County | 370468 | ......do | Do.
Do | Wake County, Unincorporated Areas | 370368 | ......do | Do.
Do | Wendell, Town of, Wake County | 370245 | ......do | Do.
Do | Zebulon, Town of, Wake County | 370246 | ......do | Do.
Region I
New Hampshire | Cornish, Town of, Sullivan County | 330155 | May 30, 2006 Suspension Notice Rescinded | May 23, 2006.
Do | Marlow, Town of, Cheshire County | 330025 | ......do | Do.
Do | Newport, Town of, Sullivan County | 330161 | ......do | Do.
Do | Roxbury, Town of, Cheshire County | 330172 | ......do | Do.
Do | Westmoreland, Town of, Cheshire County | 330238 | ......do | Do.
Region III
Virginia | Fairfax, City of, Independent City | 515524 | June 12, 2006 Suspension Notice Rescinded | June 2, 2006.
Region IV
North Carolina | Bald Head Island, Village of, Brunswick County | 370442 | ......do | Do.
Do | Belville, Town of, Brunswick County | 370545 | ......do | Do.
Do | Boiling Spring Lake, City of, Brunswick County | 370453 | ......do | Do.
Do | Bolivia, Town of, Brunswick County | 370394 | ......do | Do.
Do | Bolton, Town of, Columbus County | 370274 | ......do | Do.
Do | Brunswick County, Unincorporated Areas | 370295 | ......do | Do.
Do | Calabash, Town of, Burnswick County | 370395 | ......do | Do.
Do | Carolina Shores, Town of Brunswick County | 370517 | ......do | Do.
Do | Caswell Beach, Town of Brunswick County | 370391 | ......do | Do.
Do | Cerro Gordo, Town of, Columbus County | 370311 | ......do | Do.
Do | Chadbourn, Town of, Columbus County | 370065 | ......do | Do.
Do | Columbus County, Unincorporated Areas | 370305 | ......do | Do.
Do | Fair Bluff, Town of, Columbus County | 370067 | ......do | Do.
Do | Holden Beach, Town of, Brunswick County | 375352 | ......do | Do.
Do | Lake Waccamaw, Town of, Columbus County | 370069 | ......do | Do.
Do | Leland, Town of, Brunswick County | 370471 | ......do | Do.
Do | Navassa, Town of, Brunswick County | 370593 | ......do | Do.
Do | Northwest, City of, Brunswick County | 370513 | ......do | Do.
Do | Oak Island, Town of, Brunswick County | 370523 | ......do | Do.
Do | Shallotte, Town of, Brunswick County | 370388 | ......do | Do.
Do | Southport, City of, Brunswick County | 370028 | ......do | Do.
Do | St. James, Town of, Brunswick County | 370530 | ......do | Do.
Do | Sunset Beach, Town of, Brunswick County | 375359 | ......do | Do.
Do | Tabor City, Town of, Columbus County | 370070 | ......do | Do.
Do | Varnamtown, Town of, Brunswick County | 370648 | ......do | Do.
Do | Whiteville, City of, Columbus County | 370071 | ......do | Do.
Region IV
Florida | Alachua, City of, Alachua County | 120664 | June 19, 2006 Suspension Notice Rescinded | June 16, 2006.
Do | Gainesville, City of, Alachua County | 125107 | ......do | Do.
Do | Micanopy, Town of, Alachua County | 120344 | ......do | Do.
Do | Newberry, City of, Alachua County | 120679 | ......do | Do.
Tennessee | Saltillo, Town of, Hardin County | 470083 | ......do | Do.
Region VI
Arkansas | Austin, City of, Lonoke County | 050383 | ......do | Do.
Do | Cabot, City of, Lonoke County | 050309 | ......do | Do.
Do | Carlisle, City of, Lonoke County | 050312 | ......do | Do.
Do | England, City of, Lonoke County | 050133 | ......do | Do.
Do | Ward, City of, Lonoke County | 050372 | ......do | Do.
Region IX
California | Shasta County, Unincorporated Areas | 060358 | ......do | Do.
* -do- =Ditto.
** Designates communities converted from Emergency Phase of participation to the Regular Phase of participation.
Code for reading fourth and fifth columns: Emerg.-Emergency; Reg.-Regular; Rein.-Reinstatement; Susp.-Suspension; With.-Withdrawn; NSFHA.-Non Special Flood Hazard Area.

(Catalog of Federal Domestic Assistance No. 83.100, “Flood Insurance.”)
Dated: August 16, 2006.
David I. Maurstad,
Director, Mitigation Division, Federal Emergency Management Agency, Department of Homeland Security.

[FR Doc. 06-7181 Filed 8-25-06; 8:45 am]

BILLING CODE 9110-12-P